DEPARTMENT OF HOMELAND SECURITY

Coast Guard

33 CFR Part 100

[Docket No. USCG-2018-0752]

Special Local Regulation; Marine Events Within the Fifth Coast Guard District

AGENCY: Coast Guard, DHS.

ACTION: Notice of enforcement of regulation; change of enforcement date.

SUMMARY: The Coast Guard will enforce the special local regulation on the waters of the New Jersey Intracoastal Waterway (ICW), near Atlantic City, New Jersey, from 6 a.m. to 9 a.m. on September 23, 2018. This action is necessary to ensure safety of life on the navigable waters of the United States during a triathlon event. The purpose of this notice of enforcement is to announce a change in the date in which the event is being held.

DATES: The regulations in 33 CFR 100.501 will be enforced from 6 a.m. to 9 a.m. on September 23, 2018, for the special local regulation listed as (a)12 in the table to § 100.501.

FOR FURTHER INFORMATION CONTACT: If you have questions about this notice of enforcement, you may call or email Petty Officer Thomas J. Welker, Waterways Management Branch, U.S. Coast Guard Sector Delaware Bay; telephone (215) 271-4814, email Thomas.j.welker@uscg.mil.

SUPPLEMENTARY INFORMATION: From 6 a.m. to 9 a.m. on September 23, 2018, the Coast Guard will enforce the special local regulation at 33 CFR 100.501, table to § 100.501, (a)12 for the regulated area located in the New Jersey ICW in Atlantic City, NJ. The published enforcement periods for this event include the second or third Saturday and Sunday in September. We are announcing a change of enforcement date for this year's event with this notice of enforcement because the event will take place on the fourth Sunday in September.

The Captain of the Port, Delaware Bay will be enforcing the Special Local Regulation as specified in § 100.501(c).

In addition to this notice of enforcement in the Federal Register, the Coast Guard plans to provide the maritime community with advanced notice of enforcement of regulation by Broadcast Notice to Mariners (BNM), Local Notice to Mariners and on-scene notice by designated representative.

Dated: September 18, 2018.
Scott E. Anderson,
Captain, U.S. Coast Guard, Captain of the Port Delaware Bay.

[FR Doc. 2018-20613 Filed 9-20-18; 8:45 am]

BILLING CODE 9110-04-P